DEPARTMENT OF ENERGY

Federal Energy Regulatory Commission

Combined Notice of Filings #3

Take notice that the Commission received the following electric rate filings:

Docket Numbers: ER13-94-003.

Applicants: Avista Corporation.

Description: Avista Corp OATT Order 1000 Compliance Filing ER13-94-000 to be effective 2/17/2014.

Filed Date: 12/17/13.

Accession Number: 20131217-5190.

Comments Due: 5 p.m. ET 1/16/14.

Docket Numbers: ER14-774-000.

Applicants: Southern California Edison Company.

Description: Southern California Edison Company submits LGIA with El Segundo Center II LLC to be effective 2/19/2014.

Filed Date: 12/20/13.

Accession Number: 20131220-5184.

Comments Due: 5 p.m. ET 1/10/14.

Docket Numbers: ER14-775-000.

Applicants: Alabama Power Company.

Description: Alabama Power Company submits Order No. 784 Compliance Filing to be effective 12/20/2013.

Filed Date: 12/20/13.

Accession Number: 20131220-5186.

Comments Due: 5 p.m. ET 1/10/14.

Docket Numbers: ER14-776-000.

Applicants: Ohio Valley Electric Corporation.

Description: Ohio Valley Electric Corporation submits Order Nos. 764, 764-A and 764-B Compliance Filing to be effective 11/12/2013.

Filed Date: 12/20/13.

Accession Number: 20131220-5187.

Comments Due: 5 p.m. ET 1/10/14.

Docket Numbers: ER14-777-000.

Applicants: PacifiCorp.

Description: PacifiCorp submits Change in Status—NV Energy Merger to be effective 12/20/2013.

Filed Date: 12/20/13.

Accession Number: 20131220-5208.

Comments Due: 5 p.m. ET 1/10/14.

Docket Numbers: ER14-778-000.

Applicants: PacifiCorp.

Description: PacifiCorp submits WECC Unscheduled Flow Mitigation Plan to be effective 1/1/2014.

Filed Date: 12/20/13.

Accession Number: 20131220-5221.

Comments Due: 5 p.m. ET 1/10/14.

Docket Numbers: ER14-779-000.

Applicants: BP Energy Company.

Description: BP Energy Company submits Revised MBR Tariff—Order No. 784 Compliance Filing to be effective 12/20/2013.

Filed Date: 12/20/13.

Accession Number: 20131220-5238.

Comments Due: 5 p.m. ET 1/10/14.

Docket Numbers: ER14-780-000.

Applicants: Southern California Edison Company.

Description: Southern California Edison Company submits Amended and Restated Firm Transmission Service Agmt between SCE and MSR to be effective 1/1/2014.

Filed Date: 12/20/13.

Accession Number: 20131220-5276.

Comments Due: 5 p.m. ET 1/10/14.

Docket Numbers: ER14-781-000.

Applicants: Southwest Power Pool, Inc.

Description: Southwest Power Pool, Inc. submits Generation Interconnection Process Improvement to be effective 3/1/2014.

Filed Date: 12/20/13.

Accession Number: 20131220-5295.

Comments Due: 5 p.m. ET 1/10/14.

Docket Numbers: ER14-782-000.

Applicants: Tampa Electric Company.

Description: Tampa Electric Company submits Rate Schedule No. 37 Amendment to Attachment A to be effective 12/20/2013.

Filed Date: 12/20/13.

Accession Number: 20131220-5305.

Comments Due: 5 p.m. ET 1/10/14.

Docket Numbers: ER14-783-000.

Applicants: Southern California Edison Company.

Description: Southern California Edison Company submits Amendments to Service Agmts for Wholesale Distribution Service for EKWRA Project to be effective 12/15/2013.

Filed Date: 12/20/13.

Accession Number: 20131220-5306.

Comments Due: 5 p.m. ET 1/10/14.

Docket Numbers: ER14-784-000.

Applicants: Select Energy, Inc.

Description: Select Energy, Inc submits Filing to Effect Cancellation of Existing eTariff Database—effective 2/20/14 to be effective 2/19/2014.

Filed Date: 12/20/13.

Accession Number: 20131220-5315.

Comments Due: 5 p.m. ET 1/10/14.

Docket Numbers: ER14-785-000.

Applicants: Wisconsin Electric Power Company.

Description: Wisconsin Electric Power Company submits ComEd Metering Construction and Maintenance Agreement—FERC Rate Schedule 133 to be effective 2/20/2014.

Filed Date: 12/20/13.

Accession Number: 20131220-5316.

Comments Due: 5 p.m. ET 1/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2013.
Nathaniel J. Davis, Sr.,
Deputy Secretary.

[FR Doc. 2013-31384 Filed 12-31-13; 8:45 am]

BILLING CODE 6717-01-P